ENVIRONMENTAL PROTECTION AGENCY

[FRL-6530-4]

Agency Information Collection Activities: Submission for OMB Review; Comment Request; National Volatile Organic Compound Emission Standards for Consumer Products

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: “Reporting and Recordkeeping Requirements for National Volatile Organic Compound Emission Standards for Consumer Products,” EPA No. 1764.02, OMB No. 2060-0348, expires March 31, 2000. The ICR describes the nature of the information collection and its expected burden and cost; where appropriate, it includes the actual data collection instrument.

DATES: Comments must be submitted on or before February 28, 2000.

FOR FURTHER INFORMATION CONTACT: Sandy Farmer at EPA by phone at (202) 260-2740, by email at farmer.sandy@epamail.epa.gov, or download a copy of the ICR off the Internet at http://www.epa.gov/icr and refer to EPA ICR No. 1764.02. For technical questions about the ICR contact Bruce Moore at 919-541-5460.

SUPPLEMENTARY INFORMATION: Title: National Volatile Organic Compound Emission Standards for Consumer Products, OMB No. 2060-0348, EPA No. 1764.02, expires March 31, 2000. This is a request for an extension of a currently approved collection.

Abstract: The information collection includes initial reports and periodic recordkeeping necessary for EPA to ensure compliance with Federal standards for volatile organic compounds in consumer products. Respondents are manufacturers, distributors, and importers of consumer products. Responses to the collection are mandatory under 40 CFR part 59, subpart C—National Volatile Organic Compound Emission Standards for Consumer Products. The EPA is required under section 183(e) of the Clean Air Act (Act) to regulate VOC emissions from the use of consumer and commercial products. Pursuant to section 183(e)(3), the EPA published a list of consumer and commercial products and a schedule for their regulation on March 23, 1995 (60 FR 15264). Consumer products were included in Group I of the list, and standards were promulgated on September 11, 1998.

In the Administrator's judgment, VOC emissions from the use of consumer products contribute to ground-level ozone formation in ozone non-attainment areas.The reports and recordkeeping activities required under the rule enable the EPA to determine whether or not consumer products manufactured or imported for use in the U.S. meet the VOC content limits. Minimal reporting is required. Initial reporting consists of information needed by EPA to (1) identify the universe of manufacturers and importers subject to the rule; (2) determine the date of manufacture of products; (3) ascertain the location of formulation and batch records for purposes of compliance assurance; and (4) have on record a responsible company official as a primary contact. Notification of the use of revised date codes enables EPA to have access to the most current codes. All information submitted to the EPA for which a claim of confidentiality is made will be safeguarded according to the Agency policies set forth in 40 CFR part 2, subpart B—Confidentiality of Business Information.

An agency may not conduct or sponsor, and a person is not required to respond to, a collection of information unless it displays a currently valid OMB control number. The OMB control numbers for EPA's regulations are listed in 40 CFR part 9 and 48 CFR, chapter 15. The Federal Register document required under 5 CFR 1320.8(d), soliciting comments on this collection of information was published on June 18, 1999 (64 FR 32856); no comments were received.

Burden Statement: The annual public reporting and recordkeeping burden for this collection of information is estimated to average 79 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Manufacturers, distributors, and importers of consumer products.

Estimated Number of Respondents: 375.

Frequency of Response: Initial notification and on occasion.

Estimated Total Annual Hour Burden: 29,695 hours.

Estimated Total Annualized Capital, Operating/Maintenance Cost Burden: $0.

Send comments on the Agency's need for this information, the accuracy of the provided burden estimates, and any suggested methods for minimizing respondent burden, including through the use of automated collection techniques to the following addresses. Please refer to EPA ICR No. 1764.02 and OMB Control No. 2060-0348 in any correspondence.

Ms. Sandy Farmer, U.S. Environmental Protection Agency, Office of Environmental Information, Collection Strategies Division (2822), 1200 Pennsylvania, NW, Washington, DC 20460;

and

Office of Information and Regulatory Affairs, Office of Management and Budget, Attention: Desk Officer for EPA, 725 17th Street, NW, Washington, DC 20503.

Dated: January 20, 2000.
Oscar Morales,
Director, Collection Strategies Division.

[FR Doc. 00-1964 Filed 1-26-00; 8:45 am]

BILLING CODE 6560-50-P